FEDERAL COMMUNICATIONS COMMISSION

47 CFR Part 97

[WT Docket No. 04-140; DA 06-2379]

Amateur Service Rules

AGENCY: Federal Communications Commission.

ACTION: Correcting amendments.

SUMMARY: This document contains corrections to the final regulations which were published in the Federal Register on Wednesday, November 15, 2006, (71 FR 66460). This amendment will clarify that the 500 Hz limitation in the definition applies only to the emission types that were added to the definition of data when these emissions transmitted on amateur service frequencies below 30 MHz.

DATES: Effective December 15, 2006.

FOR FURTHER INFORMATION CONTACT: William T. Cross, Wireless Telecommunications Bureau at (202) 418-0691, or TTY (202) 418-7233.

SUPPLEMENTARY INFORMATION:

Background

On October 10, 2006, the Commission released a Report and Order, FCC 06-149, at 71 FR 66460, November 15, 2006, which incorrectly defined some of the “Data. Telemetry, telecommand and computer communications emissions” under 47 CFR 97.3(c)(2)(ii) and (c)(2)(iii) in the Amateur Radio Service proceeding in WT Docket No. 04-140. The Erratum corrects the rule amendments in §§ 97.3(c)(2)(ii) and (c)(2)(iii) of the Report and Order. The overall effect of this action is to revise § 97.3(c)(2) to conform the rule to the pertinent discussion in the text of the Report and Order.

Need for Correction

As published, the final regulations contain errors which may prove to be misleading and need to be clarified.

List of Subjects in 47 CFR Part 97

Radio.

Accordingly, 47 CFR part 97 is corrected by making the following correcting amendments:

PART 97—AMATEUR RADIO SERVICE

1. The authority citation for part 97 continues to read as follows:

Authority: 48 Stat. 1066, 1082, as amended; 47 U.S.C. 154, 303. Interpret or apply 48 Stat. 1064-1068, 1081-1105, as amended; 47 U.S.C. 151-155, 301-809, unless otherwise noted.

2. Revise paragraph (c)(2) of § 97.3 to read as follows:

§ 97.3 Definitions.

* * * * *

(c) * * *

(2) Data. Telemetry, telecommand and computer communications emissions having (i) designators with A, C, D, F, G, H, J or R as the first symbol, 1 as the second symbol, and D as the third symbol; (ii) emission J2D; and (iii) emissions A1C, F1C, F2C, J2C, and J3C having an occupied bandwidth of 500 Hz or less when transmitted on an amateur service frequency below 30 MHz. Only a digital code of a type specifically authorized in this part may be transmitted.

* * * * *

Federal Communications Commission.
Katherine M. Harris,
Deputy Chief, Mobility Services Division.

[FR Doc. E6-21004 Filed 12-12-06; 8:45 am]

BILLING CODE 6712-01-P